DEPARTMENT OF DEFENSE

Department of the Navy

Meeting of the Naval Research Advisory Committee

AGENCY: Department of the Navy, DOD.

ACTION: Notice.

SUMMARY: The Naval Research Advisory Committee will meet to discuss basic and advanced research and technology. All sessions of the meetings will be devoted to briefings, discussions and technical examination of information related to an assessment of current and projected operational requirements, deficiencies and vulnerabilities of the Navy and Marine Corps command and control systems in order to recommend a Department of the Navy strategy for developing a next generation maritime command and control capability, and an examination of quality of work life issues for Sailors and Marines in order to anticipate what they will be for the 21st century and recommend Navy and Marine Corps responses to the new challenges.

DATES: The meetings will be held on Monday, July 17 through Friday, July 21, 2000, from 8 a.m. to 5 p.m.; Monday, July 24 through Thursday, July 27, 2000, from 8 a.m. to 5 p.m.; and Friday, July 28, 2000, from 8:30 a.m. to 12 p.m.

ADDRESSES: The meeting will be held at the Space and Naval Warfare Systems Center San Diego, 53560 Hull Street, San Diego, California.

FOR FURTHER INFORMATION CONTACT: Diane Mason-Muir, Program Director, Naval Research Advisory Committee, 800 North Quincy Street, Arlington, VA 22217-5660, (703) 696-6769.

SUPPLEMENTARY INFORMATION: This notice of meetings is provided in accordance with the provisions of the Federal Advisory Committee Act (5 U.S.C. App. 2). All sessions of the meetings will be devoted to briefings, discussions and technical examination of information related to an assessment of command and control technical options, including technical risk/benefits and functional ramifications; examination of lessons learned from the naval operating forces in the context of network-centric options; identification of information infrastructure framework to support advanced command, control communications, computers, intelligence, surveillance and reconnaissance (C4ISR) concepts and mission capabilities; identification of emerging science and technology opportunities to meet joint command center C4ISR requirements; assessment of historical and current quality of work life areas and institutional responses; identification of quality of work life issues that arise as consequences of changes in population characteristics and job demands; determination of quality of work life requirements for the 21st century; evaluation of analytical quality of work life assessment methods for identifying the impact of problems and measuring the impact of efforts for problem mitigation; assessment of the current institutionalized responses to emerging challenges; and assessment of the focus areas. These briefings and discussions will contain classified and proprietary information that is specifically authorized under criteria established by Executive Order to be kept secret in the interest of national defense and are in fact properly classified pursuant to such Executive Order. The classified and non-classified matters to be discussed are so inextricably intertwined as to preclude opening any portion of the meeting. In accordance with 5 U.S.C. App. 2, section 10(d), the Secretary of the Navy has determined in writing that the public interest requires that all sessions of the meeting be closed to the public because they will be concerned with matters listed in 5 U.S.C. section 552b(c)(1) and (4).

Dated: June 30, 2000.
C.G. Carlson,
Major, U.S. Marine Corps, Alternate Federal Register Liaison Officer.

[FR Doc. 00-17367 Filed 7-7-00; 8:45 am]

BILLING CODE 3810-FF-U